DEPARTMENT OF LABOR

Mine Safety and Health Administration

Petitions for Modification

The following parties have filed petitions to modify the application of existing safety standards under section 101(c) of the Federal Mine Safety and Health Act of 1977.

1. Genwal Resources, Inc.

[Docket No. M-2005-046-C]

Genwal Resources, Inc., P.O. Box 1077, Price, Utah 84501 has filed a petition to modify the application of 30 CFR 75.1100-2(e)(2) (Quantity and location of firefighting equipment) to its Crandall Canyon Mine (MSHA I.D. No. 42-01715) located in Emery County, Utah. The petitioner requests a modification of the existing standard to permit the use of two portable fire extinguishers, or one extinguisher at each temporary electrical installation, with at least twice the minimum capacity for a portable fire extinguisher in 30 CFR 75.1100-1(e). The petitioner asserts that the proposed alternative method will not result in a diminution of safety to the miners and that the proposed alternative method would provide at least the same measure of protection as the existing standard.

2. West Ridge Resources, Inc.

[Docket No. M-2005-047-C]

West Ridge Resources, Inc., P.O. Box 1077, Price, Utah 84501 has filed a petition to modify the application of 30 CFR 75.1100-2(e) (Quantity and location of firefighting equipment) to its West Ridge Mine (MSHA I.D. No. 42-02233) located in Carbon County, Utah. The petitioner requests a modification of the existing standard to permit the use of two portable fire extinguishers, or one portable fire extinguisher at each temporary electrical installation, with at least twice the minimum capacity for a portable fire extinguisher in 30 CFR 75.1100-1(e). The petitioner asserts that the proposed alternative method will not result in a diminution of safety to the miners and that the proposed alternative method would provide at least the same measure of protection as the existing standard.

3. Genwal Resources, Inc.

[Docket No. M-2005-048-C]

Genwal Resources, Inc., P.O. Box 1077, Price, Utah 84501 has filed a petition to modify the application of 30 CFR 75.1100-2(e)(2) (Quantity and location of firefighting equipment) to its South Crandall Canyon Mine (MSHA I.D. No. 42-02356) located in Emery County, Utah. The petitioner requests a modification of the existing standard to permit the use of two portable fire extinguishers, or one portable fire extinguisher at each temporary electrical installation, with at least twice the minimum capacity for a portable fire extinguisher in 30 CFR 75.1100-1(e). The petitioner asserts that the proposed alternative method will not result in a diminution of safety to the miners and that the proposed alternative method would provide at least the same measure of protection as the existing standard.

4. Andalex Resources, Inc.

[Docket No. M-2005-049-C]

Andalex Resources, Inc., P.O. Box 1077, Price, Utah 84501 has filed a petition to modify the application of 30 CFR 75.1100-2(e)(2) (Quantity and location of firefighting equipment) to its Pinnacle Mine (MSHA I.D. No. 42-01474) located in Carbon County, Utah. The petitioner requests a modification of the existing standard to permit the use of two portable fire extinguishers, or one portable fire extinguisher at each temporary electrical installation, with at least twice the minimum capacity for a portable fire extinguisher in 30 CFR 75.1100-1(e). The petitioner asserts that the proposed alternative method will not result in a diminution of safety to the miners and that the proposed alternative method would provide at least the same measure of protection as the existing standard.

5. Andalex Resources, Inc.

[Docket No. M-2005-050-C]

Andalex Resources, Inc., P.O. Box 1077, Price, Utah 84501 has filed a petition to modify the application of 30 CFR 75.1002(a) (Installation of electric equipment and conductors; permissibility) to its Aberdeen Mine (MSHA I.D. No. 42-02028) located in Carbon County, Utah. The petitioner requests a modification of the existing standard to permit the use of low-voltage or battery-powered non-permissible, electronic testing, diagnostic equipment or other equipment within 150 feet of pillar workings, under controlled conditions. The petitioner asserts that the proposed alternative method will not result in a diminution of safety to the miners and that the proposed alternative method based on provisions in 30 CFR 75.153 would provide at least the same measure of protection as the existing standard.

6. Bear Gap Coal Company

[Docket No. M-2005-051-C]

Bear Gap Coal Company, P.O. Box 64, Spring Glen, Pennsylvania 17978 has filed a petition to modify the application of 30 CFR 75.1100-2(a)(2) (Quantity and location of firefighting equipment) to its #6 Slope Mine (MSHA I.D. No. 36-09296) located in Dauphin County, Pennsylvania. The petitioner requests a modification of the existing standard to permit the use of portable fire extinguishers only to replace existing requirements where rock dust, water cars, and other water storage equipped with three 10 quart pails is not practical. The petitioner proposes to use two portable fire extinguishers near the slope bottom and an additional portable fire extinguisher within 500 feet of the working face. The petitioner asserts that the proposed alternative method would provide at least the same measure of protection as the existing standard.

7. Bear Gap Coal Company

[Docket No. M-2005-052-C]

Bear Gap Coal Company, P.O. Box 64, Spring Glen, Pennsylvania 17978 has filed a petition to modify the application of 30 CFR 75.1400 (Hoisting equipment; general) to its #6 Slope Mine (MSHA I.D. No. 36-09296) located in Dauphin County, Pennsylvania. The petitioner proposes to use a slope conveyance (gunboat) in transporting persons without installing safety catches or other no less effective devices. The petitioner would instead operate its man cage or steel gunboat with secondary safety connections securely fastened around the gunboat, and to the hoisting rope above the main connecting device, and use hoisting ropes with a factor of safety in excess of the 4 to 8 to 1 as suggested in the American Standards Specifications for the use of wire ropes in mines. The petitioner asserts that the proposed alternative method would provide at least the same measure of protection as the existing standard.

9. Bear Gap Coal Company

[Docket No. M-2005-053-C]

Bear Gap Coal Company, P.O. Box 64, Spring Glen, Pennsylvania 17978 has filed a petition to modify the application of 30 CFR 75.335 (Construction of seals) to its #6 Slope Mine (MSHA I.D. No. 36-09296) located in Dauphin County, Pennsylvania. The petitioner proposes constructing seals from wooden materials of moderate size and weight; designing the seals to withstand a static horizontal pressure in the range of 10 psi; and installing a sampling tube only in the monkey (higher elevation) seal. The petitioner asserts that because of the pitch of anthracite veins, concrete blocks are difficult to use and expose miners to safety hazards during transport. The petitioner cites the low level of explosibility of anthracite coal dust and the minimal potential for either an accumulation of methane in previously mined pitching veins or an ignition source in the gob area as justification for the proposed 10 psi design criterion. The petitioner asserts that the proposed alternative method would provide at least the same measure of protection as the existing standard.

10. Black Beauty Coal Company

[Docket No. M-2005-054-C]

Black Beauty Coal Company, 3609 South Hart Street, Vincennes, Indiana 47591 has filed a petition to modify the application of 30 CFR 75.380(d)(5) (Escapeway; bituminous and lignite mines) to its Air Quality #1 Mine (MSHA I.D. No. 12-02010) located in Knox County, Indiana. The petitioner requests a modification of the existing standard to permit the continued use of the existing Escapeway from Unit #1 (1L/MS) number #1 entry at number 56 crosscut to the Main South (number #7 entry number 61 crosscut) intake Escapeway. The petitioner asserts that the proposed alternative method would provide at least the same measure of protection as the existing standard.

Request for Comments

Persons interested in these petitions are encouraged to submit comments via Federal eRulemaking Portal: http://www.regulations.gov; e-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before August 22, 2005. Copies of these petitions are available for inspection at that address.

Dated in Arlington, Virginia this 15th day of July 2005.
Rebecca J. Smith,
Acting Director, Office of Standards, Regulations, and Variances.

[FR Doc. 05-14410 Filed 7-20-05; 8:45 am]

BILLING CODE 4510-43-P